ENVIRONMENTAL PROTECTION AGENCY

[ER-FRL-6627-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-AFS-H65010-MO Rating EC2, Oak Decline and Forest Health Project, To Improve Forest Health, Treat Affected Stands, Recover Valuable Timber Products, Promote Public Safety, Potosi and Salem Ranger Districts, Mark Twain National Forest, Crawford, Dent, Iron, Reynolds, Shannon and Washington, MO.

Summary: EPA expressed environmental concerns related to the current condition of the stands to be treated and compliance of prescribed burns with fire management plans. EPA recommended that additional information be provided on these issues and also requested additional soil and water pollution mitigation measures.

ERP No. D-UAF-K11107-CA Rating LO, EL Rancho Road Bridge Project, Flood-Free Crossing Construction at San Antonia Creek to access from the north of Vandenberg Air Force Base, Santa Barbara County, CA.

Summary: While EPA had no objection to the proposed action, it requested clarification regarding some additional air quality and biological resource mitigation measures and pollution prevention measures.

ERP No. DS-COE-E39058-TN Rating NC, Chickamauga Dam Navigation Project, New and Updated Information concerning Cumulative Effects and Compliance with Section 106 of the Historic Preservation Act, NPDES, US Army COE Section 404 and US Coast Guard Permits Issuance, Tennessee River, Hamilton County, TN.

Summary: No formal comment letter was sent to the preparing agency.

Final EISs

ERP No. F-FRC-C03013-NY Eastchester Project, Natural Gas Pipeline and Associated Facilities, (Docket Nos. CP00-232-001) Construction, Operation and Maintenance, from Northport Long Island to the Bronx, Approval and US Army COE Section 10 and 404 Permits Issuance, Bronx Borough, NY.

Summary: EPA's concerns have been adequately addressed for this project. The final EIS and FERC's Order on Rehearing and Issuing Certificates, taken together, present enough information to identify the preferred alternative and commit to the completion of a sufficient level of detailed design work for the preferred alternative.

ERP No. F-FRC-K03025-00 North Baja Pipeline Project, Docket Nos. CP01-22-000 and CP01-23-000, Construction and Operation A New Natural Gas Transmission Pipeline, Land Use Plan Amendment, Right-of-Way Grant, NPDES, COE Section 10 and 404 Permits, La Praz and Yuma Counties, AZ and Imperial, Kern, Riverside, Palo Verde, San Bernardino and San Diego Counties, CA.

Summary: EPA expressed continued environmental concern regarding indirect and cumulative impacts to air quality from the related facilities.

ERP No. F-USN-K11106-HI Programmatic EIS—Ford Island Development Program, Proposed Consolidation of Selected Operations at Pearl Harbor by Locating and Relocating Certain Activities, Ford Island, HI.

Summary: EPA expressed environmental concern about the need for a continuing oversight by the Navy of environmental protection efforts on leased properties (which would remain Navy property), particularly to protect Pearl Harbor's water quality and to implement pollution prevention measures. EPA asked that the Navy's Record of Decision for this programmatic project, and any tiered NEPA documents for individual projects, contain commitments in this regard.

ERP No. F3-AFS-J65143-00 Flat Canyon Federal Coal Lease Tract (UTU-77114), Application for Leasing, Manti-La Sal National Forest, Ferron-Price Ranger District, Sanpete and Emery Counties, UT.

Summary: No formal comment letter was sent to the preparing agency.

Dated: February 26, 2002.
B. Katherine Biggs,
Associate Director, NEPA Compliance Division, Office of Federal Activities.

[FR Doc. 02-4943 Filed 2-28-02; 8:45 am]

BILLING CODE 6560-50-U